DEPARTMENT OF DEFENSE

Department of the Air Force

Privacy Act of 1974; System of Records

AGENCY: Department of the Air Force, DoD.

ACTION: Notice to add a record system.

SUMMARY: The Department of the Air Force proposes to add a system of records notice to its inventory of records systems subject to the Privacy Act of 1974 (5 U.S.C. 552a), as amended.

DATES: The actions will be effective on September 22, 2004 unless comments are received that would result in a contrary determination.

ADDRESSES: Send comments to the Air Force FOIA/Privacy Manager, AF-CIO/P, 1155 Air Force Pentagon, Washington, DC 20330-1155.

FOR FURTHER INFORMATION CONTACT: Mrs. Anne P. Rollins at (703) 601-4043.

SUPPLEMENTARY INFORMATION: The Department of the Air Force's record system notices for records systems subject to the Privacy Act of 1974 (5 U.S.C. 552a), as amended, have been published in the Federal Register and are available from the address above.

The proposed system report, as required by 5 U.S.C. 552a(r) of the Privacy Act of 1974, as amended, was submitted on August 13, 2004, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: August 17, 2004.
L.M. Bynum,
Alternate OSD Federal Register Liaison Officer, Department of Defense.

F035 AFAPO A

System name:

Air Force Art Program.

System location:

Air Force Art Program Office, 1720 Air Force Pentagon, Washington, DC 20330-1720.

Categories of individuals covered by the system:

Active and inactive artists whose work is included in the Air Force Art Collection and individuals donating art.

Categories of records in the system:

Artist name, mailing address, phone numbers (home, work, and cell), Social Security Number, Passport Number for overseas travel, foreign ID number, birth date, Art Society Affiliation, e-mail address, and biography. Individuals donating art (collectors): name, mailing address, e-mail address and phone number.

Authority for maintenance of the system:

10 U.S.C. 8013, Secretary of the Air Force; Air Force Instruction 84-104, Art Program; and E.O. 9397 (SSN).

Purposes(s):

Used by the Air Force Art Program Office to manage all aspects of the Air Force Art Collection, including inventories of artwork; to facilitate the artists' travel in support of the Art Program, to include generation of travel orders, trip coordination, and base access. The information is also used to maintain a current artists' or collector's record for participation in the program for mail-outs, and quarterly updates about the program.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ published at the beginning of the Air Force's compilation of systems of records notices apply to this system.

Policies and practices for storing, retrieving, accessing, retaining, and disposing of records in the system:

Storage:

Maintained in file folders, in computers, and on computer output and storage products.

Retrievability:

Records relating to the artists are retrieved by name or social security number.

Safeguards:

Records are accessed by person(s) responsible for servicing the record system in performance of their official duties and by authorized personnel who are properly screened and cleared for need-to-know. Records are stored in locked rooms and cabinets. Those in computer storage devices are protected by computer system software.

Retention and disposal:

Destroy when superseded, obsolete or no longer needed, whichever is later.

System manager(s) and address:

Non-Commissioned Officer In Charge, Air Force Art Program Office, 1720 Air Force Pentagon, Washington, DC 20330-1720.

Notification procedure:

Individuals seeking to determine whether information about themselves is contained in this system should address written inquiries to or visit the Air Force Art Program Office, 1720 Air Force Pentagon, Washington, DC 20330-1720.

Requests should include the full name and Social Security Number.

Record access procedures:

Individuals seeking access to information about them contained in this system should address written inquiries to or visit the Air Force Program Office, 1720 Air Force Pentagon, Washington, DC 20330-1720.

Requests should include the full name and Social Security Number.

Contesting record procedures:

The Air Force rules for accessing records, and for contesting contents and appealing initial agency determinations are published in Air Force Instruction 33-332; 32 CFR part 806b; or may be obtained from the system manager.

Record source categories:

Information obtained from the individual, source documents such as reports and forms.

Exemptions claimed for the system:

None.

[FR Doc. 04-19184 Filed 8-20-04; 8:45 am]

BILLING CODE 5001-06-M